FEDERAL COMMUNICATIONS COMMISSION

[CC Docket No. 95-116, CCB/CPD File No. 01-16, DA 06-1058]

Petition for Waiver of Section 52.33(a) of the Commission's Number Portability Rules

AGENCY: Federal Communications Commission.

ACTION: Notice, termination of proceeding.

SUMMARY: This document provides notice of the termination of the petition for waiver of section 52.33(a) of the Commission's number portability rules. The petition for waiver has been withdrawn by the petitioner.

DATES: Effective June 30, 2006, unless the Wireline Competition Bureau receives an opposition to the termination prior to that date.

ADDRESSES: Oppositions to the proceeding termination should be mailed to the Commission's Secretary through the Commission's contractor, Natek, Inc. at 236 Massachusetts Avenue, NE., Suite 110, Washington, DC 20002.

FOR FURTHER INFORMATION CONTACT: Margaret Dailey, Wireline Competition Bureau, Pricing Policy Division, (202) 418-2396.

SUPPLEMENTARY INFORMATION: On June 26, 2001, Citizens Communications Company (Citizens) filed a petition for waiver of section 52.33(a) of the Commission's rules. On February 14, 2005 Citizens filed a request to withdraw its petition. Based on its request to withdraw, Citizens' Petition is dismissed without prejudice and the waiver proceeding will be terminated effective 30 days after publication of this Public Notice in the Federal Register, unless the Wireline Competition Bureau receives an opposition to the termination before that date.

Parties filing oppositions to the termination of this proceeding must file an original and four copies of each filing. The filings should reference CC Docket No. 95-116 and CCB/CPD File No. 01-16. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

—U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Margaret Dailey, Pricing Policy Division, Wireline Competition Bureau, Federal Communications Commission, Room 5-A232, 445 12th Street, SW., Washington, DC 20554, or by e-mail to margaret.dailey@fcc.gov. Parties shall also serve one copy with the Commission's copy contractor, Best Copy and Printing, Inc. (BCPI), Portals II, 445 12th Street, SW., Room CY-B402, Washington, DC 20554, (202) 488-5300, or via e-mail to fcc@bcpiweb.com.

Authority: 47 U.S.C. 152, 154, 155, 303; 47 CFR 0.291, 1.749.

Federal Communications Commission.
Thomas J. Navin,
Chief, Wireline Competition Bureau.

[FR Doc. E6-8409 Filed 5-30-06; 8:45 am]

BILLING CODE 6712-01-P